NATIONAL CREDIT UNION ADMINISTRATION

Sunshine Act Meeting

The National Credit Union Administration Board determined that its business required the deletion of the following item from the previously announced closed meeting (Federal Register, Vol. 66, No. 176, page 47247, September 11, 2001) scheduled for Thursday, September 13, 2001.

1. Administrative Action under section 206 of the Federal Credit Union Act. Closed pursuant to exemptions (8), (9)(A)(ii), and (9)(B).

The Board voted unanimously that agency business required that this item be removed from the closed agenda. Earlier announcement of this change was not possible.

The previously announced items were:

1. Administrative Action under section 206 of the Federal Credit Union Act. Closed pursuant to exemptions (8), (9)(A)(ii), and (9)(B).

2. Two (2) Administrative Actions under part 704 of NCUA's Rules and Regulations. Closed pursuant to exemption (8).

3. Corporate Examination Review Task Force Report and Recommendations. Closed pursuant to exemption (8).

4. One (1) Personnel Matter. Closed pursuant to exemptions (2) and (6).

In addition, it has been determined that an item on the NCUA Board's Open Agenda for September 13, 2001, was inadvertently placed in the wrong category. One of the requests listed under open agenda item number 2 was, in fact, a request to add an underserved community to an existing field of membership. It should have been listed as:

Request from a Federal Credit Union to Add an Underserved Community to its Field of Membership.

The previously announced items were:

1. Requests from Three (3) Federal Credit Unions to Convert to Community Charters.

2. Requests from Three (3) Federal Credit Unions to Expand their Community Charters.

3. Proposed Rule: Amendment to part 704, NCUA's Rules and Regulations, Corporate Credit Unions.

4. Final Rule: Amendment to section 701.31(d), NCUA's Rules and Regulations, Nondiscrimination in Advertising.

5. Interim Final Rule: Amendment to part 707, NCUA's Rules and Regulations, Truth in Savings.

FOR FURTHER INFORMATION CONTACT: Becky Baker, Secretary of the Board, Telephone (703) 518-6304.

Becky Baker,
Secretary of the Board.

[FR Doc. 01-23347 Filed 9-14-01; 2:57 pm]

BILLING CODE 7535-01-M